DEPARTMENT OF HEALTH AND HUMAN SERVICES

National Institutes of Health

Office of the Director; Office of Dietary Supplements: Notice of Opportunity for Public Comment and Public Meeting

Background

The Office Dietary Supplements (ODS) was established in the Office of the Director, NIH, in 1995 as a major provision of the Dietary Supplement Health and Education Act of 1994 (DSHEA). A key early activity was the development of a Strategic Plan to define the mission of ODS and to set out goals for its programs. It was prepared with considerable input from NIH Institutes and Centers, other Federal agencies, consumers, and other interested parties.

The Strategic Plan was intended to guide ODS activities and programs for 5 years and it has served this purpose. Since its publication in 1998, there have been increases in the ODS budget each year, and this meant both considerable progress and expanded programs beyond those contemplated in the original Plan. Therefore it is appropriate to re-visit the original Plan this year and to develop an updated ODS Strategic Plan for 2004-2009.

The Office of Dietary Supplements is re-examining its 1998 Strategic Plan and desires public comment on the progress of its programs and on future needs and opportunities for research activities. As a part of this effort, we are holding a meeting for interested parties. The major focus of the meeting is to solicit views and suggestions on the future directions and programs of the ODS.

We have prepared a background paper that summarizes progress in key areas of ODS activity identified in the 1998 Strategic Plan and solicits comments and suggestions on future ODS activities. The background paper and related information are available on the ODS Web site at http://ods.od.nih.gov. In addition, the background paper is available from the Office of the address listed below. We are disseminating the background paper for comment by all interested parties. Comments, suggestions, and views should be forwarded to the address listed below or sent to <ODSplan.od.nih.gov.>

In addition, the ODS will hold an open public meeting on May 8 and 9, 2003 at the time and address listed below to hear additional comments and suggestions on needs and opportunities for possible inclusion in the 2004-2009 ODS Strategic Plan. Information about the meeting, including the tentative agenda, is available on ODS Web site http://ods.nih.gov. There is no registration fee.

We may use all written comments received by 5 p.m. EST, on June 27, 2003 from this request as well as those received at the meeting in the preparation of a revised Strategic Plan for 2004-2009. We will complete the strategic planning process the end of calendar year 2003. We will publish and disseminate the revised ODS Strategic Plan as the “roadmap” for programs of the Office of Dietary Supplements in 2004-2009.

The overall purpose of this strategic planning effort is to identify both new opportunities and emerging needs for possible incorporation in the programmatic efforts of the Office. To address this purpose, guidance is being requested from all interested parties on these important issues:

• Is there a need or opportunity for additional overarching goals for ODS? As a corollary, are there reasons or justification for modifying the priorities for allocation of resources to the five original goals?

• Is there a need or opportunity to re-examine the original 33 objectives individually in order to address the following issues:

(a) Are there objectives where current knowledge, opportunities, or needs that suggest expanded efforts or changes in priority for study are appropriate? If so, documentation and justification should be provided.

(b) Are there additional aspects of specific topics that should be added? If so, documentation and justification should be provided.

(c) Beyond the original 33 objectives, are there newly identified needs and opportunities that suggest additional objectives for increased emphasis in ODS programs in the future? If so, documentation and justification should be provided.

• An additional purpose of this current strategic planning effort is to seek comments and suggestions about the various approaches that ODS has utilized in addressing the goals of its 1998 Strategic Plan?

(a) Among the approaches used by ODS, should there be greater emphasis on certain ones in regard to research support, communication and information dissemination, database development, and training and career development?

(c) Are there other methods and techniques that ODS should consider in implementing its goals and objectives in the future?

Meeting Title: Office of Dietary Supplements Public Meeting.

Date: May 8 and 9, 2003.

Time: May 8—8 a.m.-5 p.m.; May 9—8 a.m.-12 noon.

Place: Bethesda Marriott Hotel, 5151 Pooks Hill Road, Bethesda, MD 20814.

Contact Person: Kenneth D. Fisher, Ph.D., Office of Dietary Supplements, 6100 Executive Boulevard, Room 3B01, Bethesda, MD 20892-7517, Phone: (301) 435-2920, Fax: (301) 480-1845, E-mail: ODSplan@od.nih.gov.

Public Participation

The meeting is open to the public with attendance limited by the availability of space on a first come, first serve basis. Members of the public who wish to present oral comment should indicate this when registering on the ODS Web site at http://ods.nih.gov no later than April 25, 2003.

Oral comments will be limited to three minutes. Individuals who register to speak will be assigned in the order in which they registered. Due to time constraints, only one representative from each organization will be allotted time for oral presentation. We may limit the number of speakers and the time allotted depending on the number of registrants. All requests to register should include the name, address, telephone number, and business or professional affiliation of the interested party. If time permits, we will allow any person attending the meeting who has not registered to speak in advance of the meeting to make a brief oral statement during the time set aside for public comment, and at the chairperson's discretion.

We encourage individuals unable to attend the meeting and all interested parties to send written comments to the Office of Dietary Supplements by mail, fax, or electronically. When mailing or faxing written comments provide, if possible, an electronic version on diskette.

Persons needing special assistance, such as sign language interpretation or other special accommodations at the meeting should indicate this when registering or contact the Office of Dietary Supplements at the address or telephone number listed no later than April 25, 2003.

Dated: April 2, 2003.
Paul M. Coates,
Director, Office of Dietary Supplements, Office of the Director, National Institutes of Health.

[FR Doc. 03-8720 Filed 4-9-03; 8:45 am]

BILLING CODE 4140-01-M